DEPARTMENT OF COMMERCE

National Oceanic and Atmospheric Administration

50 CFR Part 665

RIN 0648-AV29

Fisheries in the Western Pacific; Crustacean Fisheries; Deepwater Shrimp

AGENCY: National Marine Fisheries Service (NMFS), National Oceanic and Atmospheric Administration (NOAA), Commerce.

ACTION: Notice of availability of fishery management plan amendment; request for comments.

SUMMARY: NMFS announces that the Western Pacific Fishery Management Council proposes to amend the Fishery Management Plan for Crustacean Fisheries of the Western Pacific Region (Crustaceans FMP). If approved by the Secretary of Commerce, Amendment 13 to the Crustaceans FMP would designate deepwater shrimp of the genus Heterocarpus as management unit species, and require Federal permits and data reporting for deepwater shrimp fishing in Federal waters of the western Pacific. Amendment 13 is intended to improve information on deepwater shrimp fisheries and their ecosystem impacts, and to provide a basis for future management of the fisheries, if needed.

DATES: Comments on Amendment 13, which includes an environmental assessment, must be received by October 14, 2008.

ADDRESSES: Comments on the amendment, identified by 0648-AV29, may be sent to either of the following addresses:

• Electronic Submission: Submit all electronic public comments via the Federal e-Rulemaking Portal www.regulations.gov; or

• Mail: Mail written comments to William L. Robinson, Regional Administrator, NMFS, Pacific Islands Region (PIR), 1601 Kapiolani Blvd, Suite 1110, Honolulu, HI 96814-4700.

Instructions: All comments received are a part of the public record and will generally be posted to www.regulations.gov without change. All personal identifying information (e.g., name, address, etc.) submitted voluntarily by the commenter may be publicly accessible. Do not submit confidential business information, or otherwise sensitive or protected information. NMFS will accept anonymous comments (enter “N/A” in the required fields, if you wish to remain anonymous). Attachments to electronic comments will be accepted in Microsoft Word or Excel, WordPerfect, or Adobe PDF file formats only.

Copies of Amendment 13, including an environmental assessment, are available from the Western Pacific Fishery Management Council (Council), 1164 Bishop St., Suite 1400, Honolulu, HI 96813, tel 808-522-8220, fax 808-522-8226, www.wpcouncil.org.

FOR FURTHER INFORMATION CONTACT: Brett Wiedoff, NMFS PIR, 808-944-2272.

SUPPLEMENTARY INFORMATION: This Federal Register document is accessible at the Office of the Federal Register website: www.gpoaccess.gov/fr.

Crustacean fisheries in the western Pacific are federally-managed within the waters of the U.S. Exclusive Economic Zone (EEZ) around American Samoa, the Commonwealth of the Northern Mariana Islands (CNMI), Guam, Hawaii, and the Pacific Remote Island Areas (PRIA, including Palmyra Atoll, Kingman Reef, Jarvis Island, Baker Island, Howland Island, Johnston Atoll, Wake Island, and Midway Atoll). The EEZ around the CNMI and PRIA extends from the shoreline seaward to 200 nautical miles (nm), and the EEZ around the other islands extends from three to 200 nm offshore. Crustaceans FMP management unit species now include spiny lobsters, Panulirus marginatus and P. penicillatus, slipper lobsters of the family Scyllaridae, and Kona (spanner) crab, Ranina ranina.

Eight species of Heterocarpus have been reported throughout the tropical Pacific. These shrimp are generally found at depths of 200 to 1,200 meters on the outer reef slopes that surround islands and deepwater banks. Species distribution tends to be stratified by depth with some overlap. The deepwater trap fisheries have primarily targeted Heterocarpus ensifer and H. laevigatus.

Western Pacific commercial trap fisheries for deepwater shrimp are intermittent. There have been sporadic operations in Hawaii since the 1960s, small-scale fisheries in Guam during the 1970s, and some activity in the CNMI during the mid-1990s. The fisheries have been unregulated, and there has been no comprehensive collection of information about the fisheries. Most of these fishing ventures have been short-lived, probably as a result of sometimes-frequent loss of traps, a shrimp product with a short shelf life and history of inconsistent quality, and the rapid localized depletion of deepwater shrimp stocks leading to low catch rates. Despite these hurdles, interest in deepwater shrimp fisheries continues.

Amendment 13 would designate deepwater shrimp of the genus Heterocarpus as management unit species under the FMP, and would require Federal permits and reporting for deepwater shrimp fishing in the EEZ. The proposed monitoring program (permits and logbooks) is intended to improve understanding of these fisheries and their impact on marine ecosystems. Although currently there are no resource concerns regarding western Pacific deepwater shrimp, the proposed designation of these shrimp as management unit species would provide a basis for management of the fisheries, if warranted in the future. Amendment 13 designates Essential Fish Habitat (EFH) for the complete assemblage of adult and juvenile Heterocarpus spp. as the outer reef slopes between 300 and 700 meters surrounding every island and submerged banks in the western Pacific, and includes all eight species of deepwater shrimp in the region: Heterocarpus ensifer, H. laevigatus, H. sibogae, H. gibbosus, H. Lepidus, H. dorsalis, H. tricarinatus and H. longirostris, as required under the Magnuson-Stevens Fishery Conservation and Management Act.

Public comments on proposed Amendment 13 must be received by October 14, 2008 to be considered by NMFS in the decision to approve, partially approve, or disapprove the amendment. A proposed rule to implement the amendment has been prepared for Secretarial review and approval, and NMFS expects to publish and request public comment on the proposed regulation in the near future.

Authority: 16 U.S.C. 1801 et seq.

Dated: August 8, 2008.
Alan D. Risenhoover,
Director, Office of Sustainable Fisheries, National Marine Fisheries Service.

[FR Doc. E8-18854 Filed 8-13-08; 8:45 am]

BILLING CODE 3510-22-S